DEPARTMENT OF THE INTERIOR

Fish and Wildlife Service

[FWS-R4-R-2010-N035; 40136-1265-0000-S3]

Savannah Coastal Refuges' Complex, GA and SC

AGENCY: Fish and Wildlife Service, Interior.

ACTION: Notice of availability: Draft comprehensive conservation plan and environmental assessment; request for comments.

SUMMARY: We, the Fish and Wildlife Service (Service), announce the availability of a draft comprehensive conservation plan and environmental assessment (Draft CCP/EA) for the Savannah Coastal Refuges' Complex (Complex) for public review and comment. In this Draft CCP/EA, we describe the alternative we propose to use to manage this Complex for the 15 years following approval of the final CCP. The Complex consists of the following refuges: Pinckney Island; Savannah; Tybee; Wassaw; Harris Neck; Blackbeard Island; and Wolf Island. A separate CCP was prepared for the Wolf Island National Wildlife Refuge.

DATES: To ensure consideration, we must receive your written comments by October 15, 2010.

ADDRESSES: You may obtain a copy of the Draft CCP/EA by contacting Ms. Laura Housh, via U.S. mail at Okefenokee NWR, 2700 Suwannee Canal Road, Folkston, GA 31537, or via e-mail at laura_housh@fws.gov. Alternatively, you may download the document from our Internet site at http://southeast.fws.gov/planning under “Draft Documents.” Submit comments on the Draft CCP/EA to the above postal address or e-mail address.

FOR FURTHER INFORMATION CONTACT: Ms. Laura Housh, Refuge Planner, telephone: 912/496-7366, ext. 244; fax: 912/496-3322.

SUPPLEMENTARY INFORMATION:

Introduction

With this notice, we continue the CCP process for the Savannah Coastal Refuges' Complex. We started the process through a notice in the Federal Register on May 19, 2008 (73 FR 28838). For more about the Complex and this process, please see that notice.

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

CCP Alternatives, Including our Proposed Alternative

We developed three alternatives for managing the Complex and chose Alternative B as the proposed alternative. A full description of each alternative is in the Draft CCP/EA. We summarize each alternative below.

Alternative A—No Action Alternative

This alternative is the “no-action” or “status quo” alternative in which no major management changes would be initiated by the Service. Management emphasis would continue to focus on maintaining biological integrity of habitats found on each refuge. Under this alternative, we would protect and maintain all refuge lands, primarily focusing on the needs of threatened and endangered species, with additional emphasis on the needs of migratory birds and resident wildlife.

We would continue mandated activities for protection of federally listed species through current habitat management and monitoring programs accomplished primarily through established partnership and research projects.

Current management of migratory birds would continue to provide suitable habitat for waterfowl, contributing to the objective of the North American Waterfowl Management Plan. Surveying, monitoring, and managing colonial waterbirds, shorebirds, neotropical migratory birds, wading birds, marsh birds, and other resident birds would continue. The management of the Complex that would provide for the basic needs of these species varies. Management measures at some refuges include planting vegetation used for food, nest, and cover, including moist-soil management.

Mostly opportunistic monitoring and managing of resident wildlife would occur under this alternative. The main objective for game species management would be to sustain healthy populations through hunting programs and current habitat management. Only current wildlife management programs would continue to be maintained.

We would continue habitat management of existing beaches, wetlands, open waters, forested habitats, scrub/shrub habitats, grasslands, and open lands. All ponds, levees, moist-soil water management units, and water control structures and pumps would continue to be maintained to provide critical habitat for threatened and endangered species, waterfowl, and wetland-dependent birds. Current water quality information would be addressed on an as-needed basis and would continue to be limited. All other habitat management programs would remain unchanged.

We would continue to control invasive and exotic plant species on an opportunistic basis as resources allow. This limited control would be performed by chemical and/or mechanical means, but would remain intermittent. Control would continue to be implemented by the take of exotic or invasive animals as part of hunting programs offered on some of the refuges, and opportunistically by Complex staff.

We would maintain the current levels of wildlife-dependent recreation activities. An extensive network of public use facilities would continue to be maintained.

Land would be acquired from willing sellers within each refuge's current acquisition boundary and in accordance with current Service policy. Law enforcement on each refuge would continue at the current level, with emphasis on resource protection and public safety. We would maintain the Complex as resources allow. The Complex would continue to include a combined staff of 30 full-time employees.

Alternative B—Increased Management (Proposed Alternative)

The proposed action (Alternative B) was selected by the Service as the alternative that best signifies the vision, goals, and purposes of the Complex. Additionally, this alternative was developed based on public input and the best professional judgment of the planning team. Under Alternative B, the emphasis would be on restoring and improving Complex resources needed for wildlife and habitat management and providing enhanced appropriate and compatible wildlife-dependent public use opportunities, while addressing key issues and individual refuge mandates.

This alternative would focus on augmenting wildlife and habitat management to identify, conserve, and restore populations of native fish and wildlife species, with an emphasis on migratory birds and threatened and endangered species. This would partially be accomplished by increased monitoring of waterfowl, other migratory and resident birds, and endemic species in order to assess and adapt management strategies and actions. Additionally, information gaps would be addressed by the initiation of baseline surveying, periodic monitoring, and ultimately the addition of adaptive habitat management.

Habitat management programs for impoundments, beaches, wetlands, open waters, forested habitats, scrub/shrub habitats, grasslands, and open lands would be re-evaluated and we would develop step-down management plans to meet the foraging, resting, and breeding requirements of priority species. Additionally, monitoring and adaptive habitat management would be implemented to potentially counteract the impacts associated with long-term climate change and sea level rise.

The control of invasive and exotic plant species would be more aggressively managed by implementing a management plan, completing a baseline inventory, supporting research, and through strategic mechanical and chemical means. Additionally, we would utilize this management plan and monitoring to enhance efforts to control/remove invasive, exotic, and nuisance animals on the refuges.

Alternative B enhances each refuges' visitor services opportunities (except for Tybee NWR, which would remain closed to the public) by: (1) Improving the quality of fishing opportunities; (2) streamlining quota hunt process and where possible evaluating the options of allowing the use of crossbows and creating additional hunting opportunities; and (3) maintaining and where possible expanding environmental education opportunities. Volunteer programs and friends groups would be expanded to enhance all aspects of refuge management and to increase resource availability. We would evaluate the possibility of utilizing a concessionaire at Pinckney NWR to implement a tram tour that would provide a means for access and participation by patrons with mobility issues.

Under this alternative, the priority of land acquisition at Harris Neck NWR would be to acquire lands from willing sellers that could provide resource and public use values. These lands could be acquired by fee title purchase, donation, mitigation purchase and transfer, or other viable means. This would include an investigation into expanding the current acquisition boundary. At Savannah NWR, the focus would increase on acquiring lands from willing sellers by any viable means that could provide resource and public use values.

Law enforcement activities to protect archaeological and historical sites and provide visitor safety would be intensified. The allocation of an additional law enforcement officer for the Complex would provide security for cultural resources, but would also ensure visitor safety and public compliance with refuge regulations.

Administration plans would stress the need for increased maintenance of existing infrastructure and construction of new facilities. Funding for new construction projects would be balanced between habitat management and public use needs. An additional staff position would be required to accomplish the goals of this alternative. Personnel priorities would include employing an environmental education coordinator, law enforcement officers/park rangers, a volunteer coordinator, biological technicians, maintenance workers, refuge managers, refuge assistant managers, and a geographic information systems specialist. The increased budget and staffing levels would better enable the Complex to meet the obligations of wildlife stewardship, habitat management, and public use.

Alternative C—Minimal Intervention

Under Alternative C, the management of Complex resources would be employed to allow natural succession to take place, while maintaining the current slate of public use opportunities. All purposes of the refuges and mandated monitoring of Federal trust species and archaeological resources would be continued, but other wildlife management would be mostly performed on an incidental basis.

This alternative would utilize a custodial habitat management strategy. Impoundments, beaches, wetlands, open waters, forested habitats, scrub/shrub habitats, grasslands, and open lands would not be actively managed and would allow natural disturbance to maintain succession, unless the habitat primarily focuses on the needs of threatened and endangered species or the needs of priority species, such as migratory birds. Fire management would be reduced to include wildfire response only.

We would continue mandated activities for protection of federally listed species. Conservation of federally listed threatened and endangered species would be continued primarily through established partnership and research projects.

Current management of migratory birds would continue to provide suitable habitat for waterfowl. Climate control changes and sea level rise would continue to be monitored on an opportunistic basis, with very little or no adaptive habitat management. We would control invasive and exotic plant and animal species on an opportunistic basis as resources allow. This limited control would be performed by chemical and/or mechanical means, but would remain intermittent. We would maintain the current levels of wildlife-dependent recreation activities. Public use facilities would continue to be maintained, as would the current visitor services program.

Law enforcement officers would be added to the staff to increase emphasis on resource protection and public safety. This includes being designated to uphold current regulations and for protection of wildlife, visitors, and cultural and historical resources. We would maintain the Complex as resources allow. No additional land acquisition would be pursued under this alternative.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority

This notice is published under the authority of the National Wildlife Refuge System Improvement Act of 1997, Public Law 105-57.

Dated: March 19, 2010.
Mark J. Musaus,
Acting Regional Director.

[FR Doc. 2010-22965 Filed 9-14-10; 8:45 am]

BILLING CODE 4310-55-P